DEPARTMENT OF ENERGY

Federal Energy Regulatory Commission

[Docket No. CP15-36-000]

National Fuel Gas Supply Corporation; Notice of Request Under Blanket Authorization

Take notice that on December 19, 2014 National Fuel Gas Supply Corporation (National Fuel), 6363 Main Street, Williamsville, New York 14221, filed in the above Docket, a prior notice request pursuant to sections 157.205, 157.208, 157.210 and 157.216 of the Commission's regulations under the Natural Gas Act (NGA) and National Fuel's blanket certificate issued in Docket No. CP83-4-000, for authorization to replace certain portions of Line NM-44 NY and Line U NY in Erie County, New York. National Fuel proposes to (1) construct and operate approximately 13.6 miles of 16-inch diameter pipeline, 0.6 miles of 20-inch diameter pipeline, and various auxiliary facilities and (2) to abandon approximately 13.3 miles of 16-inch diameter bare steel pipeline and 0.6 miles of 20-inch diameter bare steel pipeline. National Fuel states that proposed replacement will increase overall integrity, reliability and efficient operation of its pipeline system. National Fuel also states that due to engineering constraints several areas of new right-of-way are necessary and the estimated cost of work is $12 million, all as more fully set forth in the application which is on file with the Commission and open to public inspection. The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Kenneth E. Webster, Attorney for National Fuel, 6363 Main Street, Williamsville, New York 14221, or call at (716) 857-7067.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (www.ferc.gov) under the “e-Filing” link.

Dated: December 29, 2014.
Kimberly D. Bose,
Secretary.

[FR Doc. 2014-30845 Filed 1-2-15; 8:45 am]

BILLING CODE 6717-01-P